OFFICE OF SCIENCE AND TECHNOLOGY POLICY

Meeting of the President's Committee of Advisors on Science and Technology

AGENCY: Office of Science and Technology Policy.

ACTION: Notice of meeting.

SUMMARY: This notice sets forth the schedule and summary agenda for a meeting of the President's Committee of Advisors on Science and Technology (PCAST), and describes the functions of the Committee. Notice of this meeting is required under the Federal Advisory Committee Act.

DATES AND PLACE: February 17, 2000, Washington, DC. This meeting will take place in the Truman Room (Third Floor) of the White House Conference Center, 726 Jackson Place, NW, Washington, DC.

TYPE OF MEETING: Open.

PROPOSED SCHEDULE AND AGENDA: The President's Committee of Advisors on Science and Technology (PCAST) is scheduled to meet in open session on Thursday, February 17, 2000, at approximately 1:00 p.m., to discuss (1) The research and development budget request for FY2001; (2) Issues related to the S&T workforce of the 21st century; and (3) The work of the PCAST panels. This session will end at approximately 5:30 p.m.

PUBLIC COMMENTS: There will be a time allocated for the public to speak on any of the above agenda items. Please make your request for the opportunity to make a public comment five (5) days in advance of the meeting. Written comments are welcome any time prior to or following the meeting. Please notify Cynthia Chase, of the PCAST Executive Secretariat, at (202) 456-6100, or fax your requests/comments to (202) 456-6026.

FOR FURTHER INFORMATION: For information regarding time, place, and agenda, please call Cynthia Chase, of the PCAST Executive Secretariat, at (202) 456-6100, prior to 3 p.m. on Wednesday, February 16, 2000. Information may also be available at the PCAST website at http://www.whitehouse.gov/WH/EOP/PCAST/html/PCAST_home.html. Please note that public seating for this meeting is limited, and is available on a first-come first served basis.

SUPPLEMENTARY INFORMATION: The President's Committee of Advisors on Science and Technology was established by Executive Order 12882, as amended, on November 23, 1993. The purpose of PCAST is to advise the President on matters of national importance that have significant science and technology content, and to assist the President's National Science and Technology Council in securing private sector participation in its activities. The Committee members are distinguished individuals appointed by the President from non-Federal sectors. The PCAST is co-chaired by the Assistant to the President for Science and Technology and, by John Young, former President and CEO of the Hewlett-Packard Company.

Barbara Ann Ferguson,
Assistant Director, Budget and Administration, Office of Science and Technology Policy.

[FR Doc. 00-3438 Filed 2-10-00; 11:06 am]

BILLING CODE 3170-01-P